DEPARTMENT OF THE INTERIOR

National Park Service

[NPS-WASO-NRNHL-16448;PPWOCRADI0, PCU00RP14.R50000]

National Register of Historic Places; Notification of Pending Nominations and Related Actions

Nominations for the following properties being considered for listing or related actions in the National Register were received by the National Park Service before August 9, 2014. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by September 19, 2014. Before including your address, phone number, email address, or other personal identifying information in your comment, you should be aware that your entire comment—including your personal identifying information—may be made publicly available at any time. While you can ask us in your comment to withhold your personal identifying information from public review, we cannot guarantee that we will be able to do so.

Dated: August 8, 2014.
Paul Lusignan,
Acting Chief, National Register of Historic Places/National Historic Landmarks Program.

CALIFORNIA

Los Angeles County

Forum, 3900 Manchester Blvd., Inglewood, 14000661

Santa Cruz County

Lower Sky Meadow Residential Area Historic District, (Big Basin Redwoods State Park MPS), 7, 8, 9, 10, 14, 15 & 16 Sky Meadow Ln., Boulder Creek, 14000662

IOWA

Black Hawk County

Overland Waterloo Company Building, (Downtown Waterloo MPS), 500 E. 4th St., Waterloo, 14000663

Waterloo West Commercial Historic District, (Downtown Waterloo MPS), 217-333 W. 4th, 301-317 W. 5th & 612-716 Jefferson Sts., Waterloo, 14000664

Jasper County

Newton Downtown Historic District, Centered around Courthouse Sq., Newton, 14000665

Johnson County

Hawthorne Glove and Novelty Company—Shrader Drug Company Building, 529 S. Gilbert St., Iowa City, 14000666

Johnson County Poor Farm and Asylum Historic District, S. side of Melrose & Slothtower Aves., Iowa City, 14000668

Jones County

Wapsipinicon State Park Historic District, 21301 Cty. Rd. E34, Anamosa, 14000669

LOUISIANA

Caddo Parish

Shreveport Commercial Historic District (Boundary Increase and Decrease), 710, 416, 410, 400, 330, 228, 220, 214, 208 Travis, 408, 223, 219, 217 Fannin, 305, 308, 401 Market Sts., Shreveport, 14000673

Natchitoches Parish

St. Augustine Catholic Church and Cemetery, 2262 LA 484, Natchez, 14000679

Orleans Parish

Edgewood Park Historic District, Roughly bounded by Peoples & Humanity Sts., Gentilly Blvd., Peoples Ave. & Fairmont Dr., New Orleans, 14000690

Iberville Public Housing Development Historic District, (United States Housing Authority Funded Public Housing in Louisiana MPS), 401 Treme St., New Orleans, 14000692

Washington Parish

Brumfield Homestead, 47082 T.C. Brumfield Rd., Franklinton, 14000693

MASSACHUSETTS

Norfolk County

Original Congregational Church of Wrentham, 1 East & 22 Dedham Sts., Wrentham, 14000694

Wellesley Congregational Church and Cemetery, 2 Central St., Wellesley, 14000696

Suffolk County

Almont Apartments, 1439-1443 & 1447-1451 Blue Hill Ave., Boston, 14000698

NEBRASKA

Douglas County

Memmen Apartments, 2214, 2216, 2218 & 2220 Florence Blvd., Omaha, 14000701

NEW YORK

New York County

CIRCLE LINE X (sightseeing vessel), Pier 83 & West 42nd St., Manhattan, 14000702

NORTH CAROLINA

Davie County

Cooleemee Mill Town Historic District, Roughly bounded by Marginal, Hickory, Center & Holt Sts., Neely & Pine Ridge Rds., S. Yadkin R., Cooleemee, 14000704

Greene County

Hardee House, 515 L.A. Moye Rd., Ormondsville, 14000703

OREGON

Lake County

Paisley Five Mile Point Caves, Address Restricted, Paisley, 14000708

SOUTH CAROLINA

Jasper County

Richardson, J.C., House, 67 Gillison Branch Rd., Robertville, 14000709

UTAH

Carbon County

Alcove, The, (Nine Mile Canyon, Utah MPS), Address Restricted, Price, 14000631

Archeological Site No. 42Cb2049, (Nine Mile Canyon, Utah MPS), Address Restricted, Price, 14000699

Archeological Site No. 42Cb78, (Nine Mile Canyon, Utah MPS), Address Restricted, Price, 14000633

Archeological Site No. 42Cb1378, (Nine Mile Canyon, Utah MPS), Address Restricted, Price, 14000675

Archeological Site No. 42Cb143, (Nine Mile Canyon, Utah MPS), Address Restricted, Price, 14000634

Archeological Site No. 42Cb1711, (Nine Mile Canyon, Utah MPS), Address Restricted, Price, 14000676

Archeological Site No. 42Cb1716, (Nine Mile Canyon, Utah MPS), Address Restricted, Price, 14000677

Archeological Site No. 42Cb1727, (Nine Mile Canyon, Utah MPS), Address Restricted, Price, 14000678

Archeological Site No. 42Cb1735, (Nine Mile Canyon, Utah MPS), Address Restricted, Price, 14000680

Archeological Site No. 42Cb1736, (Nine Mile Canyon, Utah MPS), Address Restricted, Price, 14000681

Archeological Site No. 42Cb1738, (Nine Mile Canyon, Utah MPS), Address Restricted, Price, 14000682

Archeological Site No. 42Cb1740, (Nine Mile Canyon, Utah MPS), Address Restricted, Price, 14000683

Archeological Site No. 42Cb1744, (Nine Mile Canyon, Utah MPS), Address Restricted, Price, 14000684

Archeological Site No. 42Cb1748, (Nine Mile Canyon, Utah MPS), Address Restricted, Price, 14000685

Archeological Site No. 42Cb1749, (Nine Mile Canyon, Utah MPS), Address Restricted, Price, 14000686

Archeological Site No. 42Cb1750, (Nine Mile Canyon, Utah MPS), Address Restricted, Price, 14000687

Archeological Site No. 42Cb1750, (Nine Mile Canyon, Utah MPS), Address Restricted, Price, 14000688

Archeological Site No. 42Cb1753, (Nine Mile Canyon, Utah MPS), Address Restricted, Price, 14000689

Archeological Site No. 42Cb1754, (Nine Mile Canyon, Utah MPS), Address Restricted, Price, 14000691

Archeological Site No. 42Cb1862, (Nine Mile Canyon, Utah MPS), Address Restricted, Price, 14000695

Archeological Site No. 42Cb1910, (Nine Mile Canyon, Utah MPS), Address Restricted, Price, 14000697

Archeological Site No. 42Cb2051, (Nine Mile Canyon, Utah MPS), Address Restricted, Price, 14000700

Archeological Site No. 42Cb2052, (Nine Mile Canyon, Utah MPS), Address Restricted, Price, 14000705

Archeological Site No. 42Cb2053, (Nine Mile Canyon, Utah MPS), Address Restricted, Price, 14000707

Archeological Site No. 42Cb2054, (Nine Mile Canyon, Utah MPS), Address Restricted, Price, 14000711

Archeological Site No. 42Cb2055, (Nine Mile Canyon, Utah MPS), Address Restricted, Price, 14000712

Archeological Site No. 42Cb2056, (Nine Mile Canyon, Utah MPS), Address Restricted, Price, 14000713

Archeological Site No. 42Cb2058, (Nine Mile Canyon, Utah MPS), Address Restricted, Price, 14000714

Archeological Site No. 42Cb2059, (Nine Mile Canyon, Utah MPS), Address Restricted, Price, 14000715

Archeological Site No. 42Cb2060, (Nine Mile Canyon, Utah MPS), Address Restricted, Price, 14000716

Archeological Site No. 42Cb2061, (Nine Mile Canyon, Utah MPS), Address Restricted, Price, 14000717

Archeological Site No. 42Cb2062, (Nine Mile Canyon, Utah MPS), Address Restricted, Price, 14000718

Archeological Site No. 42Cb2069, (Nine Mile Canyon, Utah MPS), Address Restricted, Price, 14000719

Archeological Site No. 42Cb2075, (Nine Mile Canyon, Utah MPS), Address Restricted, Price, 14000720

Archeological Site No. 42Cb2080, (Nine Mile Canyon, Utah MPS), Address Restricted, Price, 14000721

Archeological Site No. 42Cb2082, (Nine Mile Canyon, Utah MPS), Address Restricted, Price, 14000722

Archeological Site No. 42Cb2167, (Nine Mile Canyon, Utah MPS), Address Restricted, Price, 14000723

Archeological Site No. 42Cb2171, (Nine Mile Canyon, Utah MPS), Address Restricted, Price, 14000724

Archeological Site No. 42Cb2173, (Nine Mile Canyon, Utah MPS), Address Restricted, Price, 14000725

Archeological Site No. 42Cb2174, (Nine Mile Canyon, Utah MPS), Address Restricted, Price, 14000726

Archeological Site No. 42Cb2192, (Nine Mile Canyon, Utah MPS), Address Restricted, Price, 14000727

Archeological Site No. 42Cb2193, (Nine Mile Canyon, Utah MPS), Address Restricted, Price, 14000728

Archeological Site No. 42Cb2194, (Nine Mile Canyon, Utah MPS), Address Restricted, Price, 14000729

Archeological Site No. 42Cb2196, (Nine Mile Canyon, Utah MPS), Address Restricted, Price, 14000730

Archeological Site No. 42Cb2198, (Nine Mile Canyon, Utah MPS), Address Restricted, Price, 14000731

Archeological Site No. 42Cb2199, (Nine Mile Canyon, Utah MPS), Address Restricted, Price, 14000732

Archeological Site No. 42Cb2204, (Nine Mile Canyon, Utah MPS), Address Restricted, Price, 14000733

Archeological Site No. 42Cb2207, (Nine Mile Canyon, Utah MPS), Address Restricted, Price, 14000734

Archeological Site No. 42Cb2209, (Nine Mile Canyon, Utah MPS), Address Restricted, Price, 14000740

Archeological Site No. 42Cb2214, (Nine Mile Canyon, Utah MPS), Address Restricted, Price, 14000735

Archeological Site No. 42Cb2215, (Nine Mile Canyon, Utah MPS), Address Restricted, Price, 14000736

Archeological Site No. 42Cb2216, (Nine Mile Canyon, Utah MPS), Address Restricted, Price, 14000737

Archeological Site No. 42Cb2223, (Nine Mile Canyon, Utah MPS), Address Restricted, Price, 14000738

Archeological Site No. 42Cb2234, (Nine Mile Canyon, Utah MPS), Address Restricted, Price, 14000739

Archeological Site No. 42Cb23, (Nine Mile Canyon, Utah MPS), Address Restricted, Price, 14000629

Archeological Site No. 42Cb2458, (Nine Mile Canyon, Utah MPS), Address Restricted, Price, 14000741

Archeological Site No. 42Cb2487, (Nine Mile Canyon, Utah MPS), Address Restricted, Price, 14000743

Archeological Site No. 42Cb2491, (Nine Mile Canyon, Utah MPS), Address Restricted, Price, 14000744

Archeological Site No. 42Cb2531, (Nine Mile Canyon, Utah MPS), Address Restricted, Price, 14000746

Archeological Site No. 42Cb2547, (Nine Mile Canyon, Utah MPS), Address Restricted, Price, 14000747

Archeological Site No. 42Cb2550, (Nine Mile Canyon, Utah MPS), Address Restricted, Price, 14000748

Archeological Site No. 42Cb2557, (Nine Mile Canyon, Utah MPS), Address Restricted, Price, 14000750

Archeological Site No. 42Cb2558, (Nine Mile Canyon, Utah MPS), Address Restricted, Price, 14000751

Archeological Site No. 42Cb2566, (Nine Mile Canyon, Utah MPS), Address Restricted, Price, 14000752

Archeological Site No. 42Cb259, (Nine Mile Canyon, Utah MPS), Address Restricted, Price, 14000636

Archeological Site No. 42Cb261, (Nine Mile Canyon, Utah MPS), Address Restricted, Price, 14000638

Archeological Site No. 42Cb262, (Nine Mile Canyon, Utah MPS), Address Restricted, Price, 14000639

Archeological Site No. 42Cb2736, (Nine Mile Canyon, Utah MPS), Address Restricted, Price, 14000753

Archeological Site No. 42Cb2771, (Nine Mile Canyon, Utah MPS), Address Restricted, Price, 14000754

Archeological Site No. 42Cb2833, (Nine Mile Canyon, Utah MPS), Address Restricted, Price, 14000755

Archeological Site No. 42Cb2845, (Nine Mile Canyon, Utah MPS), Address Restricted, Price, 14000756

Archeological Site No. 42Cb2846, (Nine Mile Canyon, Utah MPS), Address Restricted, Price, 14000757

Archeological Site No. 42Cb34, (Nine Mile Canyon, Utah MPS), Address Restricted, Price, 14000630

Archeological Site No. 42Cb404, (Nine Mile Canyon, Utah MPS), Address Restricted, Price, 14000640

Archeological Site No. 42Cb44, (Nine Mile Canyon, Utah MPS), Address Restricted, Price, 14000632

Archeological Site No. 42Cb528, (Nine Mile Canyon, Utah MPS), Address Restricted, Price, 14000745

Archeological Site No. 42Cb627, (Nine Mile Canyon, Utah MPS), Address Restricted, Price, 14000641

Archeological Site No. 42Cb675, (Nine Mile Canyon, Utah MPS), Address Restricted, Price, 14000642

Archeological Site No. 42Cb716, (Nine Mile Canyon, Utah MPS), Address Restricted, Price, 14000644

Archeological Site No. 42Cb717, (Nine Mile Canyon, Utah MPS), Address Restricted, Price, 14000645

Archeological Site No. 42Cb719, (Nine Mile Canyon, Utah MPS), Address Restricted, Price, 14000646

Archeological Site No. 42Cb720, (Nine Mile Canyon, Utah MPS), Address Restricted, Price, 14000647

Archeological Site No. 42Cb721, (Nine Mile Canyon, Utah MPS) Address Restricted, Price, 14000648

Archeological Site No. 42Cb722, (Nine Mile Canyon, Utah MPS) Address Restricted, Price, 14000649

Archeological Site No. 42Cb727, (Nine Mile Canyon, Utah MPS) Address Restricted, Price, 14000650

Archeological Site No. 42Cb728, (Nine Mile Canyon, Utah MPS) Address Restricted, Price, 14000651

Archeological Site No. 42Cb732, (Nine Mile Canyon, Utah MPS) Address Restricted, Price, 14000652

Archeological Site No. 42Cb805, (Nine Mile Canyon, Utah MPS) Address Restricted, Price, 14000654

Archeological Site No. 42Cb815, (Nine Mile Canyon, Utah MPS) Address Restricted, Price, 14000655

Archeological Site No. 42Cb839, (Nine Mile Canyon, Utah MPS) Address Restricted, Price, 14000656

Archeological Site No. 42Cb8496, (Nine Mile Canyon, Utah MPS) Address Restricted, Price, 14000742

Archeological Site No. 42Cb852, (Nine Mile Canyon, Utah MPS) Address Restricted, Price, 14000657

Archeological Site No. 42Cb853, (Nine Mile Canyon, Utah MPS) Address Restricted, Price, 14000658

Archeological Site No. 42Cb857, (Nine Mile Canyon, Utah MPS) Address Restricted, Price, 14000659

Archeological Site No. 42Cb858, (Nine Mile Canyon, Utah MPS) Address Restricted, Price, 14000660

Archeological Site No. 42Cb861, (Nine Mile Canyon, Utah MPS) Address Restricted, Price, 14000667

Archeological Site No. 42Cb864, (Nine Mile Canyon, Utah MPS) Address Restricted, Price, 14000670

Archeological Site No. 42Cb867, (Nine Mile Canyon, Utah MPS) Address Restricted, Price, 14000671

Archeological Site No. 42Cb905, (Nine Mile Canyon, Utah MPS) Address Restricted, Price, 14000672

Archeological Site No. 42Cb996, (Nine Mile Canyon, Utah MPS) Address Restricted, Price, 14000674

Archeological Site No. 42Cb710, (Nine Mile Canyon, Utah MPS) Address Restricted, Price, 14000643

Patti's Place, (Nine Mile Canyon, Utah MPS) Address Restricted, Price, 14000653

WYOMING

Sweetwater County

Eden—Farson Site, Address Restricted, Eden, 14000710

[FR Doc. 2014-21009 Filed 9-3-14; 8:45 am]

BILLING CODE 4310-70-P